DEPARTMENT OF COMMERCE

National Oceanic and Atmospheric Administration

[I.D. 062204A]

Endangered Species; File Nos. 1346 and 1368

AGENCY: National Marine Fisheries Service (NMFS), National Oceanic and Atmospheric Administration (NOAA), Commerce.

ACTION: Issuance of Permit No. 1346-01 and withdrawal of File No. 1368.

SUMMARY: Notice is hereby given that Thomas B. McCormick, Channel Islands Marine Resource Institute (CIMRI), P.O. Box 1627, Port Hueneme, CA 93044, has been issued a modification to Permit No. 1346 to take white abalone (Haliotis sorenseni) for the purposes of scientific research. In addition, the Southwest Fisheries Science Center (SWFSC), National Marine Fisheries Service, 8604 La Jolla Shores Drive, La Jolla, CA 92038 (Principal Investigator: John Butler, Ph.D.) has withdrawn their application (File No. 1368) to take white abalone for the purposes of scientific research.

ADDRESSES: The permit modification and related documents are available for review upon written request or by appointment in the following offices:

Permits, Conservation and Education Division, Office of Protected Resources, NMFS, 1315 East-West Highway, Room 13705, Silver Spring, MD 20910; phone (301)713-2289; fax (301)713-0376; and

Southwest Region, NMFS, 501 West Ocean Blvd., Suite 4200, Long Beach, CA 90802-4213; phone (562)980-4001; fax (562)980-4018.

FOR FURTHER INFORMATION CONTACT: Jennifer Skidmore or Ruth Johnson, (301)713-2289.

SUPPLEMENTARY INFORMATION: Notices of receipt were previously published regarding requests for one scientific research permit and one permit modification to take white abalone that were submitted by the SWFSC (March 15, 2002; 67 FR 11676) and Mr. McCormick (October 21, 2002; 67 FR 64603) respectively. The requested permit modification has been issued under the authority of the Endangered Species Act of 1973, as amended (ESA; 16 U.S.C. 1531 et seq.) and the regulations governing the taking, importing, and exporting of endangered and threatened species (50 CFR parts 222-226).

In compliance with the National Environmental Policy Act of 1969 (42 U.S.C. 4321 et seq.), an environmental assessment was prepared analyzing the effects of the permitted activities. After a Finding of No Significant Impact, the determination was made that it was not necessary to prepare an environmental impact statement.

Issuance of this permit, as required by the ESA, was based on a finding that such permit (1) was applied for in good faith, (2) will not operate to the disadvantage of the endangered species which is the subject of this permit, and (3) is consistent with the purposes and policies set forth in section 2 of the ESA.

Dated: July 2, 2004.
Tammy C. Adams,
Acting Chief, Permits, Conservation and Education Division, Office of Protected Resources, National Marine Fisheries Service.

[FR Doc. 04-15613 Filed 7-8-04; 8:45 am]

BILLING CODE 3510-22-S